NUCLEAR REGULATORY COMMISSION

[Docket No. NRC-2014-0075]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 29, 2014.

1. Type of submission, new, revision, or extension: Extension.

2. The title of the information collection: NRC Form 354, “Data Report on Spouse.”

3. Current OMB approval number: OMB 3150-0026.

4. The form number if applicable: Form 354.

5. How often the collection is required: On Occasion.

6. Who will be required or asked to report: NRC contactors, licensees, applicants, and other (e.g. intervener's) who marry or cohabitate after completing the Personnel Security Forms, or after having been granted an NRC access authorization or employment clearance.

7. The estimated number of annual respondents: 80.

8. An estimate of the total number of hours needed annually to complete the requirement or request: 16.

9. Abstract: NRC Form 354 must be completed by the NRC's contractors, licensees, applicants who marry or cohabitate after completing the Personnel Security Forms, or after having been granted an NRC access authorization or employment clearance. Form 354 identifies the respondent, the marriage, and data on the spouse and spouse's parents. This information permits the NRC to make initial security determinations and to assure there is no increased risk to the common defense and security.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/index.html. The document will be available on the NRC's home page site for 60 days after the signature date of this notice.

Comments and questions should be directed to the OMB reviewer listed below by September 29, 2014. Comments received after this date will be considered if it is practical to do so, but assurance of consideration cannot be given to comments received after this date: Danielle Jones, Desk Officer, Office of Information and Regulatory Affairs (3150-0026), NEOB-10202, Office of Management and Budget, Washington, DC 20503.

Comments can also be emailed to Danielle_Y_Jones@omb.eop.gov or submitted by telephone at 202-395-1741.

The Acting NRC Clearance Officer is Brenda Miles, telephone: 301-415-7884.

Dated at Rockville, Maryland, this 22nd day of August, 2014.
For the Nuclear Regulatory Commission.
Brenda Miles,
Acting NRC Clearance Officer, Office of Information Services.

[FR Doc. 2014-20448 Filed 8-27-14; 8:45 am]

BILLING CODE 7590-01-P